DEPARTMENT OF ENERGY

Federal Energy Regulatory Commission

[Docket No. ER00-2814-002]

Commonwealth Edison Company, Notice of Filing

November 7, 2000.

Take notice that on October 25, 2000, Commonwealth Edison Company (ComEd), tendered for filing an executed Dynamic Scheduling Agreement (DSA) with Commonwealth Edison Company in its Wholesale Merchant Function (WEG).

ComEd requests the same effective date of January 1, 2000 for the DSA that ComEd requested and was granted in docket No. ER00-940-000, in which ComEd submitted an unexecuted DSA between ComEd and WEG.

ComEd has served a copy of this filing on WEG and on the parties listed on the official service list in this proceeding.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before November 15, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the Internet in lieu of paper. See, 18 CFR 385.2001(a)(1)(iii) and the instructions on the Commission's web site at http://www.ferc.fed.us/efi/doorbell.htm.

Linwood A. Watson, Jr.,
Acting Secretary.

[FR Doc. 00-29174 Filed 11-14-00; 8:45 am]

BILLING CODE 6717-01-M